DEPARTMENT OF HOUSING AND URBAN DEVELOPMENT

[Docket No. FR-5693-N-03]

Implementation of the Privacy Act of 1974, as Amended; Privacy Act System of Records, Family Self-Sufficiency Program Demonstration Data

AGENCY: Office of the Chief Information Officer, HUD.

ACTION: Notice.

SUMMARY: Pursuant to the Privacy Act of 1974 (U.S.C. 552a(e)(4)), as amended, and Office of Management and Budget (OMB), Circular No. A-130, notice is hereby given that the Department of Housing and Urban Development (HUD), Office of Policy Development and Research provides public notice regarding its Family Self-Sufficiency Program Demonstration Data. This study will allow the Department, and other participating agencies to evaluate the benefits and impacts gained from families participating in the Family Self Sufficiency program. The data sources evaluated under this program are gathered from Federal, state, and local agencies' databases. A more detailed description of the proposed system is contained in the purpose section of this notice.

DATES: Effective Date: This notice shall become effective, without further notice July 12, 2013, unless comments are received during or before this period which would result in a contrary determination.

Comments Due Date: July 12, 2013.

FOR FURTHER INFORMATION CONTACT: Donna Robinson-Staton, Chief Privacy Officer, 451 Seventh Street SW., Washington, DC 20410 (Attention: Capitol View Building, 4th Floor), telephone number: (202) 402-8073. [The above telephone number is not a toll free number.] A telecommunications device for hearing- and speech-impaired persons (TTY) is available by calling the Federal Information Relay Service's toll-free telephone number (800) 877-8339.

SUPPLEMENTARY INFORMATION: Pursuant to the Privacy Act of 1974 (5 U.S.C. 552a), Pursuant to the Privacy Act of 1974 (5 U.S.C. 552a), as amended, notice is given that HUD proposes to establish a new system of records. The system report was submitted to the Office of Management and Budget (OMB), the Senate Committee on Homeland Security and Governmental Affairs, and the House Committee on Government Reform pursuant to Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: May 31, 2013.
Barbara Elliott,
Acting Chief Information Officer.

SYSTEM OF RECORDS NO.: PD&R/RRE.02

SYSTEM NAME:

Family Self-Sufficiency Program Demonstration Data.

SYSTEM LOCATION:

MDRC 16 East 34th Street, New York, NY 10016-4326; Department of Housing and Urban Development, 451 7th St. SW., Washington DC 20410; Iron Mountain, 1101 Enterprise Drive, Royersford, PA 19468.

CATEGORIES OF INDIVIDUALS COVERED BY THIS SYSTEM:

Participants in the Family Self-Sufficiency Program Demonstration.

CATEGORIES OF RECORDS IN THE SYSTEM:

The dataset will contain the following categories of records:

1. Output of random assignment process: Identify treatment group status, sample ID and research ID.

2. Responses to baseline information form: This initial survey collects PII, including social security number, full name, date of birth, public housing authority household ID number, address, phone numbers, email addresses, and contact information of family or friends. In addition, it will collect demographic data, family status, household composition, employment status, and income.

3. Responses to follow-up survey: Respondents' subjective assessments of FSS; respondents' experiences with other public housing programs; respondents' earning of degrees and credentials; involvement in education, training, and employment services; respondent and household income; material hardship; family well-being; savings, debt, and financial behaviors; household demographics; housing circumstances and conditions.

4. Administrative data: Data on households available through HUD administrative data collections will be brought into the dataset directly from participating public housing authorities and extracted from HUD's Inventory Management System, including information pertaining to family structure, household size, household assets, household income, total tenant payment and subsidy amount, FSS escrow account eligibility, timing and amount of FSS escrow account contributions, withdrawals from FSS escrow account, eligibility for Section 8 housing, residence status in public housing, and participation in other HUD programs.

5. Management information system data: When necessary, each study site will include information about FSS pre-employment, education, and training services providers will be collected, including service type, service referral, start and end dates, end reason, degree/credential receipt, and supportive services payment types.

6. Data from State Unemployment Insurance systems and other administrative systems outside of HUD: In addition to the data collected through the follow-up survey, the FSS Demonstration Data will also include quarterly data drawn from the Unemployment Insurance (UI) system on employment, earnings, and UI benefit receipt. It may also include data on receipt of Supplemental Nutrition Assistance Program (SNAP) benefits and Temporary Assistance to Needy Families (TANF) benefits collected from the responsible entities in each study site.

AUTHORITY FOR MAINTENANCE OF THE SYSTEM:

Section 502(g) of the Housing and Urban Development Act of 1970 (Public Law 91-609) (12 U.S.C. 1701z-1; 1701z-2(d) and (g)).

PURPOSE(s):

The purpose of the FSS Demonstration is to evaluate the impact of the FSS program. The FSS Demonstration is a random-assignment study to evaluate the effectiveness of the Family Self-Sufficiency (FSS) Program. FSS has operated since 1992 and serves voucher holders and residents of public housing. The FSS program offers participants case management plus an escrow account in which they must deposit a proportion of any increased earnings during the time they stay in the program. The FSS program aims to help participants increase their earnings. To date, HUD previously funded two studies of the FSS program, but neither can tell us how well families would have done in the absence of the program. The FSS Demonstration will compare FSS participants to nonparticipants in terms of employment, earnings and housing stability over several years. Because participants and non-participants will be randomly assigned instead of self-selected, the FSS Demonstration findings will allow us to attribute participant gains to the impact of the program. This study will provide critical information for developing policies that truly support families toward self-sufficiency. The findings of the FSS Demonstration can inform decisions about the modification or expansion of the FSS program. Furthermore, the FSS Demonstration is in direct service of the mission of HUD's Office of Policy Development and Research, which is to “inform policy development and implementation to improve life in American communities through conducting, supporting, and sharing research, surveys, demonstrations, program evaluations, and best practices.” In sum, the purposes of the FSS Demonstration are (1) to find out if the FSS program helps families achieve self-sufficiency and (2) to provide policy makers with insight into how policy can best help families achieve self-sufficiency.

ROUTINE USE OF RECORDS MAINTAINED IN THE SYSTEM, INCLUDING CATEGORIES OF USERS AND THE PURPOSES OF SUCH USES:

In addition to those disclosures generally permitted under 5 U.S.C. 552a(b) of the Privacy Act, HUD may disclose information contained in this system of records without the consent of the subject individual in accordance with the following discretionary disclosures set forth by the Federal Register Notice “HUD's Routine Use Inventory” [Docket No. FR-5613-N-07] published on 7/17/2012 ¹ when such disclosure is compatible with the purpose for which the record was collected, providing that approval is obtained from the system manager. Routine uses applicable to the FSS Demonstration Data System include:

¹ http://portal.hud.gov/hudportal/documents/huddoc?id=append1.pdf.

(1) To a recipient who has provided the agency with advance adequate written assurance that the record will be used solely as a statistical research or reporting record, and the record is to be transferred in a form that is not individually identifiable;

(2) To the National Archives and Records Administration (NARA) and the General Services Administration (GSA) for records having sufficient historical or other value to warrant its continued preservation by the United States Government, or for inspection under authority of Title 44, Chapter 29, of the United States;

(3) To a congressional office from the record of an individual in response to an inquiry from the congressional office made at the request of that individual;

(4) To contractors, grantees, experts, consultants, Federal agencies, and non-Federal entities including but not limited to state and local governments, and other research institutions or their parties, other entities and their agents with whom HUD has a contract, service agreement, grant, or cooperative agreement, when necessary to accomplish an agency function related to a system of records for the purposes of statistical analysis and research in support of program operations, management, performance monitoring, evaluation, risk management, and policy development, or otherwise to support the Department's mission. Records under this routine use may not be used in whole or in part to make decisions that affect the rights, benefits or privileges of specific individuals. The results of matched information may not be disclosed in identifiable form;

(5) To the Department of Justice (DOJ) when seeking legal advice for a HUD initiative or in response to DOJ's request for the information, after either HUD or DOJ determine that such information is relevant to DOJ's representatives of the United States or any other components in legal proceedings before a court or adjudicative body, provided that, in each case, the agency also determines prior to disclosure that disclosure of the records to the DOJ is a use of the information contained in the records that is compatible with the purpose for which HUD collected the records;

(6) HUD on its own may disclose records in this system of records in legal proceeding before a court or administrative body after determining that the disclosure of the records to the court or administrative body is a use of the information contained in the records that is compatible with the purpose for which HUD collected the records;

(7) To another agency or to an instrumentality of any governmental jurisdiction within or under the control of the United States for a civil or criminal law enforcement activity if the activity is authorized by law, and if the head of the agency or instrumentality has made a written request to the agency which maintains the record specifying the particular portion desired and the law enforcement activity for which the record is sought; and

(8) To appropriate agencies, entities, and persons when: (a) HUD suspects or has confirmed that the security or confidentiality of information in a system of records has been compromised; (b) HUD has determined that as a result of the suspected or confirmed compromise there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach.

STORAGE:

Records are stored on secure servers. System users are not allowed to download, keep, or process individual-level data on the hard drives of their MDRC work stations. Archived study data will be stored on secure servers, and the IRON Mountain Storage facility.

RETRIEVABILITY:

Records will be retrieved by social security number and/or unique study identifier.

SAFEGUARDS:

Access to any server, security, storage, backup, and infrastructure equipment is monitored, restricted to only those with a need-to-have system access, including being secured by administrative password and authentication methods. All system users are required to sign a confidentiality pledge to abide by corporate policies and by HUD policies. There are no paper-based records associated with this study.

RETENTION AND DISPOSAL:

Records (electronic data) files are maintained in accordance with HUD Records Disposition Schedule 67.9.b and 67.9.f;² this schedule requires that records be retained or archived for 6 years. As such, when projects are satisfactorily closed and records are no longer needed for administrative purposes, the records can be destroyed when the destruction date is reached. Manual records are destroyed by shredding or burning; electronic records are destroyed in accordance with HUD's IT Security Handbook 2400.25, Section 4.7.6.³

² http://portal.hud.gov/hudportal/documents/huddoc?id=22256x67ADMH.pdf.

³ http://portal.hud.gov/hudportal/documents/huddoc?id=240025CIOH.pdf.

SYSTEM MANAGER(S) AND ADDRESS:

Director, Division of Program Evaluation, Department of Housing and Urban Development, Office of Policy Development and Research, 451 Seventh Street SW., Room 8120, Washington, DC 20410.

NOTIFICATION AND RECORD ACCESS PROCEDURE:

For information, assistance, or inquiry about the existence of records, contact the Chief Privacy Officer, Department of Housing and Urban Development, 451 Seventh Street SW., Room 4156, Washington, DC 20410. (Attention: Capitol View Building, 4th Floor). Provide verification of your identity by providing two proofs of official identification. Your verification of identity must include your original signature and must be notarized. The Department's rules for providing access to records to the individual concerned appear in 24 CFR part 16.

CONTESTING RECORD PROCEDURES:

The procedures for requesting amendment or correction of records appear in 24 CFR part 16. If additional information is needed, contact:

(i) In relation to contesting contents of records, the Privacy Act Officer at HUD, 451 Seventh Street SW., Room 4178 (Attention: Capitol View Building, 4th Floor), Washington, DC 20410;

(ii) In relation to appeals of initial denials, HUD, Departmental Privacy Appeals Officer, Office of General Counsel, 451 Seventh Street SW., Washington, DC 20410.

RECORD SOURCE CATEGORIES:

(1) Output of random assignment process, (2) Responses to baseline information form, (3) Responses to follow-up survey, (4) Administrative data, (5) Management information system data from public housing agencies, and (6) Data from administrative systems, including State Unemployment Insurance and entities responsible for Supplemental Nutrition Assistance Program (SNAP) benefits and Temporary Assistance to Needy Families (TANF) in each study site.

SYSTEMS EXEMPTED FROM CERTAIN PROVISIONS OF THE ACT:

None.

[FR Doc. 2013-13974 Filed 6-11-13; 8:45 am]

BILLING CODE 4210-67-P